DEPARTMENT OF HEALTH AND HUMAN SERVICES

National Institutes of Health

Prospective Grant of Exclusive License: “Nucleic acid encoding mesothelin, a differentiation antigen present on mesothelium, mesotheliomas and ovarian cancers” U.S. Patent 6,152,430, Issued November 28, 2000, and “Mesothelium antigen and methods and kits for targeting it” U.S. Patent 6,083,502, Issued July 4, 2000

AGENCY: National Institutes of Health, Public Health Service, DHHS.

ACTION: Notice.

SUMMARY: This is notice, in accordance with 35 U.S.C. 209(c)(1) and 37 CFR part 404.7(a)(1) (i), that the National Institutes of Health, Department of Health and Human Services, is contemplating the grant of an exclusive license to practice the inventions embodied in U.S. Patent 6,153,430: “Nucleic acid encoding Mesothelin, a differentiation antigen present on mesothelium, mesotheliomas and ovarian cancers” issued November 28th, 2000, and U.S. Patent 6,083,502: “Mesothelium antigen and methods and kits for targeting it” issued July 4th, 2000, to Cell Genesys, Inc., which is located in Foster City, California. The patent rights in these inventions have been assigned to the United States of America.

The prospective exclusive license territory will be worldwide and the field of use may be limited to human gene therapy using peptides or antibody fragments for the treatment of cancer.

DATES: Only written comments and/or license applications that are received by the National Institutes of Health on or before December 30, 2002 will be considered.

ADDRESSES: Requests for copies of the patent, inquiries, comments and other materials relating to the contemplated exclusive license should be directed to: Brenda J. Hefti, Technology Licensing Specialist, Office of Technology Transfer, National Institutes of Health, 6011 Executive Boulevard, Suite 325, Rockville, MD 20852-3804. Telephone: (301) 496-7056, x206; Facsimile: (301) 402-0220; and e-mail: heftib@od.nih.gov.

SUPPLEMENTARY INFORMATION: The prospective exclusive license: will be royalty-bearing and will comply with the terms and conditions of 35 U.S.C. 209 and 37 CFR part 404.7. The prospective exclusive license may be granted unless within sixty (60) days from the date of this published notice, the NIH receives written evidence and argument that establish that the grant of the license would not be consistent with the requirements of 35 U.S.C. 209 and 37 CFR part 404.7.

The technology claimed in the issued patent relates to mesothelin, which is associated with mesotheliomas and ovarian cancers. The invention includes uses for the amino acid and nucleic acid sequences for mesothelin, recombinant cells expressing it, methods for targeting and/or inhibiting the growth of cells bearing mesothelin, methods for detecting the antigen and its expression level as an indication of the presence of tumor cells, and kits for such detection.

Applications for a license in the field of use filed in response to this notice will be treated as objections to the grant of the contemplated exclusive license. Comments and objections submitted to this notice will not be made available for public inspection and, to the extent permitted by law, will not be released under the Freedom of Information Act, 5 U.S.C. 552.

Dated: October 15, 2002.
Jack Spiegel,
Director, Division of Technology Development and Transfer, Office of Technology Transfer.

[FR Doc. 02-27517 Filed 10-28-02; 8:45 am]

BILLING CODE 4140-01-P